DEPARTMENT OF ENERGY

Office of Energy Efficiency and Renewable Energy

Proposed Agency Information Collection

AGENCY: U.S. Department of Energy, Office of Energy Efficiency and Renewable Energy.

ACTION: Notice and Request for Comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. The questions in the collection instrument are available upon request to Jennifer.DeCesaro@ee.doe.gov.

DATES: Comments regarding this proposed information collection must be received on or before August 29, 2011. If you anticipate difficulty in submitting comments within that period, contact the person listed in ADDRESSES as soon as possible.

ADDRESSES: Written comments may be sent to: Jennifer DeCesaro, U.S. Department of Energy, 1000 Independence Ave., SW., Washington, DC 20585, Fax: 202-586-8148, Jennifer.DeCesaro@ee.doe.gov.

FOR FURTHER INFORMATION CONTACT: Jennifer DeCesaro, U.S. Department of Energy, 1000 Independence Ave., SW., Washington, DC 20585, Fax: 202-586-8148, Jennifer.DeCesaro@ee.doe.gov.

SUPPLEMENTARY INFORMATION: This information collection request contains: (1) OMB No. New; (2) Information Collection Request Title: Solar Market Indicators: Data collection from local jurisdictions and other relevant regional stakeholders (e.g. non-profit organizations, state energy offices) on policies and processes that contribute to solar system costs; (3) Type of Request: New collection; (4) Purpose: The DOE will use this information to establish a baseline for key solar market indicators and process contributions to the non-hardware costs for solar installations, an effort that has not been formally undertaken by the federal government or industry to date. Likely respondents are local jurisdictions, state governments, and non-profit organizations; (5) Annual Estimated Number of Respondents: 35; (6) Annual Estimated Number of Total Responses: 35; (7) Annual Estimated Number of Burden Hours: 210; (8) Annual Estimated Reporting and Recordkeeping Cost Burden: $0.

Statutory Authority: These activities are authorized under the Solar Photovoltaic Energy Research, Development, and Demonstration Act of 1978, Pub. L. 95-590, codified at 42 U.S.C. 5581 et seq., and the Department of Energy Organization Act, Pub. L. 95-91, as amended, codified at 42 U.S.C. 7101 et seq.

Issued in Washington, DC on June 23, 2011.
Ramamoorthy Ramesh,
Program Manager, Solar Energy Technologies Program, Office of Energy Efficiency and Renewable Energy.

[FR Doc. 2011-16307 Filed 6-28-11; 8:45 am]

BILLING CODE 6450-01-P